DEPARTMENT OF HOMELAND SECURITY

Federal Emergency Management Agency

[Docket ID FEMA-2007-0008]

National Advisory Council; Meeting

AGENCY: Federal Emergency Management Agency, DHS.

ACTION: Committee management; notice of Federal advisory committee meeting.

SUMMARY: The Federal Emergency Management Agency (FEMA) National Advisory Council (NAC) will meet in person on March 4 and 5, 2015 in New Orleans, LA. The meeting will be open to the public.

DATES: The NAC will meet on Wednesday, March 4, 2015, from 8:30 a.m. to 5:30 p.m. and on Thursday, March 5 from 8:30 a.m. to 12:30 p.m. Central Standard Time (CST). Please note that the meeting may close early if the NAC has completed its business.

ADDRESSES: The meeting will be held at the Conference Center at the historic Jackson Barracks located at 6400 St. Claude Avenue, New Orleans, LA 70117. All visitors to the Jackson Barracks are required to register with FEMA prior to the meeting in order to be admitted to the building. Photo identification is required to access the building. Please provide your name, telephone number, email address, title, and organization by close of business on March 2, 2015, to the person listed in FOR FURTHER INFORMATION CONTACT below.

For information on facilities or services for individuals with disabilities or to request special assistance at the meeting, contact the person listed in FOR FURTHER INFORMATION CONTACT below as soon as possible.

To facilitate public participation, members of the public are invited to provide written comments on the issues to be considered by the NAC (see “Agenda”). Written comments must be submitted and received by 5 p.m. CST on February 27, 2015, identified by Docket ID FEMA-2007-0008, and submitted by one of the following methods:

• Federal eRulemaking Portal: http://www.regulations.gov. Follow the instructions for submitting comments.

• Email: FEMA-RULES@fema.dhs.gov. Include the docket number in the subject line of the message.

• Fax: (540) 504-2331.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided.

Docket: For access to the docket to read comments received by the NAC, go to http://www.regulations.gov, and search for the Docket ID listed above.

A public comment period will be held after each subcommittee report and before NAC voting and again from 4 p.m. to 4:30 p.m. CST. All speakers are requested to limit their comments to 3 minutes. Comments should be addressed to the committee. Any comments not related to the agenda topics will not be considered by the NAC. Contact the individual listed below to register as a speaker by February 27, 2015. Please note that the public comment period may end before the time indicated, following the last call for comments.

FOR FURTHER INFORMATION CONTACT: Alexandra Woodruff, Alternate Designated Federal Officer, Office of the National Advisory Council, Federal Emergency Management Agency, 500 C Street SW., Washington, DC 20472-3184, telephone (202) 646-2700, fax (540) 504-2331, and email FEMA-NAC@fema.dhs.gov. The NAC Web site is: http://www.fema.gov/national-advisory-council.

SUPPLEMENTARY INFORMATION: Notice of this meeting is given under the Federal Advisory Committee Act, 5 U.S.C. Appendix.

The NAC advises the FEMA Administrator on all aspects of emergency management. The NAC incorporates State, local, and tribal government, private sector and nongovernmental input in the development and revision of FEMA plans and strategies.

Agenda: On Wednesday, March 4, the NAC will be welcomed to FEMA Region VI and introduced to its activities by the Regional Administrator and then engage in an open discussion with the FEMA Administrator. The NAC will receive report outs from its subcommittees on topics related to Federal Insurance and Mitigation, Preparedness and Protection, and Response and Recovery. The NAC will review the information presented on each topic, deliberate on any recommendations presented in the subcommittees' reports, and, if appropriate, vote on recommendations for FEMA's consideration.

The NAC will also receive briefings from FEMA Executive Staff on the following topics:

• FEMA Louisiana Recovery Office;

• Looking Back on Hurricane Katrina; and

• FEMA Office of Response and Recovery Activities and Updates.

On Thursday, March 5, the NAC will engage in an open discussion with the FEMA Deputy Administrator, followed by an update on and discussion with the Federal Insurance and Mitigation Administration, a presentation on recovery from a local perspective, and an update on America's PrepareAthon!.

The full agenda and any related documents for this meeting will be posted on the NAC Web site at http://www.fema.gov/national-advisory-council.

Dated: February 10, 2015.
W. Craig Fugate,
Administrator, Federal Emergency Management Agency.

[FR Doc. 2015-03182 Filed 2-13-15; 8:45 am]

BILLING CODE 9111-48-P